DEPARTMENT OF TRANSPORTATION

Federal Aviation Administration

Notice of Intent To Rule on Application 03-03-1-00-GLH To Impose of Passenger Facility Charge (PFC) at Mid Delta Regional Airport, Greenville, MS

AGENCY: Federal Aviation Administration (FAA), DOT.

ACTION: Notice of intent to rule on application.

SUMMARY: The FAA proposes to rule and invites public comment on the application to impose a PFC at Mid Delta Regional Airport under the provisions of 49 U.S.C. 40117 and part 158 of the Federal Aviation Regulations (14 CFR part 158).

DATES: Comments must be received on or before March 21, 2003.

ADDRESSES: Comments on this application may be mailed or delivered in triplicate to the FAA at the following address: FAA/Airports District Office; 100 West Cross Street, Suite B; Jackson, MS 39208-2307.

In addition, one copy of any comments submitted to the FAA must be mailed or delivered to Mr. Darrell Foreman, Airport Director of the City of Greenville, Mississippi at the following address: 166 Fifty Ave., Suite 300; Greenville, MS 38703.

Air carriers and foreign air carriers may submit copies of written comments previously provided to the City of Greenville under section 158.23 of part 158.

FOR FURTHER INFORMATION CONTACT: Patrick D. Vaught, Program Manager, 100 West Cross Street, Suite B, Jackson, MS 39208-2307, (601) 664-9885. The application may be reviewed in person at this same location.

SUPPLEMENTARY INFORMATION: The FAA proposes to rule and invites public comment on the application to impose a PFC at Mid Delta Regional Airport under the provisions of 49 U.S.C. 40117 and part 158 of the Federal Aviation Regulations (14 CFR part 158).

On February 10, 2003, the FAA determined that the application to impose a PFC submitted by the City of Greenville was substantially complete within the requirements of § 158.25 of Part 158. The FAA will approve or disapprove the application, in whole or in part, no later than June 7, 2003.

The following is a brief overview of the application.

Proposed charge effective date: June 1, 2003.

Proposed charge expiration date: October 31, 2005.

Level of the proposed PFC: $3.00.

Total estimated PFC revenue: $86,610.

Brief description of proposed project(s):

1. Terminal Area Drainage Improvements and Parking Lot Relocation.

2. Rehabilitate Runway 9/27 and Convert to Taxiway.

3. Terminal Building Fire Escape Stairwell Project.

Class or classes of air carriers which the public agency has requested not be required to collect PFCs: ATCO—Air Taxi/Commercial Operators filing Form 1800-31.

In addition, any person may, upon request, inspect the application, notice and other documents germane to the application in person at the City of Greenville, Mississippi.

Issued in Jackson, Mississippi on February 10, 2003.
Wayne Atkinson,
Manager, Jackson Airports District Office.

[FR Doc. 03-3971 Filed 2-18-03; 8:45 am]

BILLING CODE 4910-13-M